DEPARTMENT OF ENERGY

Federal Energy Regulatory Commission

Combined Notice of Filings

Take notice that the Commission has received the following Natural Gas Pipeline Rate and Refund Report filings:

Filings Instituting Proceedings

Docket Numbers: RP17-363-002.

Applicants: Eastern Shore Natural Gas Company.

Description: Eastern Shore Natural Gas Company submits tariff filing per 154.203: Motion to Place Suspended Tariff Sheets into Effect to be effective 8/1/2017.

Filed Date: 07/31/2017.

Accession Number: 20170731-5263.

Comment Date: 5:00 p.m. Eastern Time on Monday, August 14, 2017.

Docket Numbers: RP17-927-000.

Applicants: Gulf South Pipeline Company, LP.

Description: Gulf South Pipeline Company, LP submits tariff filing per 154.204: Cap Rel Neg Rate Agmt (Petrohawk 41455 to Texla 48436) to be effective 8/1/2017.

Filed Date: 07/31/2017.

Accession Number: 20170731-5101.

Comment Date: 5:00 p.m. Eastern Time on Monday, August 14, 2017.

Docket Numbers: RP17-928-000.

Applicants: Great Lakes Gas Transmission Limited Par.

Description: Great Lakes Gas Transmission Limited Partnership Semi-Annual Transporter's Use Report.

Filed Date: 07/31/2017.

Accession Number: 20170731-5125.

Comment Date: 5:00 p.m. Eastern Time on Monday, August 14, 2017.

Docket Numbers: RP17-929-000.

Applicants: Dominion Energy Overthrust Pipeline, LLC.

Description: Annual Fuel Gas Reimbursement Report for 2017 of Dominion Energy Overthrust Pipeline, LLC.

Filed Date: 07/31/2017.

Accession Number: 20170731-5126.

Comment Date: 5:00 p.m. Eastern Time on Monday, August 14, 2017.

Docket Numbers: RP17-930-000.

Applicants: Algonquin Gas Transmission, LLC.

Description: Algonquin Gas Transmission, LLC submits tariff filing per 154.204: Negotiated Rates—US Gas to MacQuarie eff 8-1-2017 to be effective 8/1/2017.

Filed Date: 07/31/2017.

Accession Number: 20170731-5133.

Comment Date: 5:00 p.m. Eastern Time on Monday, August 14, 2017.

Docket Numbers: RP17-931-000.

Applicants: Wyoming Interstate Company, L.L.C.

Description: Wyoming Interstate Company, L.L.C. submits tariff filing per 154.403(d)(2): Fuel and L&U Update Filing to be effective 9/1/2017.

Filed Date: 07/31/2017.

Accession Number: 20170731-5154.

Comment Date: 5:00 p.m. Eastern Time on Monday, August 14, 2017.

Docket Numbers: RP17-932-000.

Applicants: Algonquin Gas Transmission, LLC.

Description: Algonquin Gas Transmission, LLC submits tariff filing per 154.204: Negotiated Rate—Con Ed to Constellation—794435 to be effective 8/1/2017.

Filed Date: 07/31/2017.

Accession Number: 20170731-5155.

Comment Date: 5:00 p.m. Eastern Time on Monday, August 14, 2017.

Docket Numbers: RP17-933-000.

Applicants: Transcontinental Gas Pipe Line Company.

Description: Transcontinental Gas Pipe Line Company, LLC submits tariff filing per 154.403: Rate Schedule S-2 Tracker Filing (EPC) eff 8/1/2017 to be effective 8/1/2017.

Filed Date: 07/31/2017.

Accession Number: 20170731-5164.

Comment Date: 5:00 p.m. Eastern Time on Monday, August 14, 2017.

Docket Numbers: RP17-934-000.

Applicants: Rockies Express Pipeline LLC.

Description: Rockies Express Pipeline LLC submits tariff filing per 154.204: Neg Rate 2017-07-31 Encana to be effective 8/1/2017.

Filed Date: 07/31/2017.

Accession Number: 20170731-5168.

Comment Date: 5:00 p.m. Eastern Time on Monday, August 14, 2017.

Docket Numbers: RP17-935-000.

Applicants: American Midstream (AlaTenn), LLC.

Description: American Midstream (AlaTenn), LLC submits tariff filing per 154.204: Section 36 Tariff Update to be effective 9/1/2017.

Filed Date: 07/31/2017.

Accession Number: 20170731-5186.

Comment Date: 5:00 p.m. Eastern Time on Monday, August 14, 2017.

Docket Numbers: RP17-936-000.

Applicants: High Point Gas Transmission, LLC.

Description: High Point Gas Transmission, LLC submits tariff filing per 154.204: NAESB Standards Section 6.17 Tariff Update to be effective 9/1/2017.

Filed Date: 07/31/2017.

Accession Number: 20170731-5191.

Comment Date: 5:00 p.m. Eastern Time on Monday, August 14, 2017.

Docket Numbers: RP17-937-000.

Applicants: American Midstream (Midla), LLC.

Description: American Midstream (Midla), LLC submits tariff filing per 154.204: NAESB Standards Section 27 and Negotiated Rate Agreement Section 44 Update to be effective 9/1/2017.

Filed Date: 07/31/2017.

Accession Number: 20170731-5198.

Comment Date: 5:00 p.m. Eastern Time on Monday, August 14, 2017.

Docket Numbers: RP17-938-000.

Applicants: Dominion Energy Transmission, Inc.

Description: Dominion Energy Transmission, Inc. submits tariff filing per 154.204: DETI—July 31, 2017 Negotiated Rate Agreement to be effective 8/1/2017.

Filed Date: 07/31/2017.

Accession Number: 20170731-5200.

Comment Date: 5:00 p.m. Eastern Time on Monday, August 14, 2017.

Docket Numbers: RP17-939-000.

Applicants: Dauphin Island Gathering Partners.

Description: Dauphin Island Gathering Partners submits tariff filing per 154.204: Negotiated Rate Filing 8-1-2017 to be effective 8/1/2017.

Filed Date: 07/31/2017.

Accession Number: 20170731-5219.

Comment Date: 5:00 p.m. Eastern Time on Monday, August 14, 2017.

Docket Numbers: RP17-940-000.

Applicants: Transcontinental Gas Pipe Line Company.

Description: Transcontinental Gas Pipe Line Company, LLC submits tariff filing per 154.203: Flow Through of Dominion Penalty Sharing Rate Schedules GSS & LSS Report.

Filed Date: 07/31/2017.

Accession Number: 20170731-5237.

Comment Date: 5:00 p.m. Eastern Time on Monday, August 14, 2017.

Docket Numbers: RP17-941-000.

Applicants: Northern Natural Gas Company.

Description: Northern Natural Gas Company submits tariff filing per 154.204: 20170731 Negotiated Rate to be effective 8/1/2017.

Filed Date: 07/31/2017.

Accession Number: 20170731-5239.

Comment Date: 5:00 p.m. Eastern Time on Monday, August 14, 2017.

Docket Numbers: RP17-942-000.

Applicants: Transcontinental Gas Pipe Line Company.

Description: Transcontinental Gas Pipe Line Company, LLC submits tariff filing per 154.204: GT&C Section 8—Liability to be effective 8/31/2017.

Filed Date: 07/31/2017.

Accession Number: 20170731-5268.

Comment Date: 5:00 p.m. Eastern Time on Monday, August 14, 2017.

Docket Numbers: RP17-943-000.

Applicants: Total Peaking Services, L. L. C.

Description: Total Peaking Services, L. L. C. submits tariff filing per 154.204: TPS Housekeeping Changes to be effective 9/30/2017.

Filed Date: 07/31/2017.

Accession Number: 20170731-5291.

Comment Date: 5:00 p.m. Eastern Time on Monday, August 14, 2017.

Docket Numbers: RP17-944-000.

Applicants: Equitrans, L.P.

Description: Equitrans, L.P. submits tariff filing per 154.203: GSS Storage Ratchet and Minimum Storage Balance Update.

Filed Date: 07/31/2017.

Accession Number: 20170731-5292.

Comment Date: 5:00 p.m. Eastern Time on Monday, August 14, 2017.

Docket Numbers: RP17-945-000.

Applicants: Golden Pass Pipeline LLC.

Description: Golden Pass Pipeline LLC submits tariff filing per 154.204: Capacity Reservation for Future Expansion to be effective 9/1/2017.

Filed Date: 08/01/2017.

Accession Number: 20170801-5000.

Comment Date: 5:00 p.m. Eastern Time on Monday, August 14, 2017.

Docket Numbers: RP17-946-000.

Applicants: MoGas Pipeline LLC.

Description: Penalty Revenue Crediting Report of MoGas Pipeline LLC.

Filed Date: 07/31/2017.

Accession Number: 20170731-5320.

Comment Date: 5:00 p.m. Eastern Time on Monday, August 14, 2017.

Docket Numbers: RP17-947-000.

Applicants: Texas Gas Transmission, LLC.

Description: Texas Gas Transmission, LLC submits tariff filing per 154.204: Cap Rel Neg Rate Agmts (RE Gas 35433, 34955 to BP 36473, 36475) to be effective 8/1/2017.

Filed Date: 08/01/2017.

Accession Number: 20170801-5072.

Comment Date: 5:00 p.m. Eastern Time on Monday, August 14, 2017.

Docket Numbers: RP17-948-000.

Applicants: Texas Gas Transmission, LLC.

Description: Texas Gas Transmission, LLC submits tariff filing per 154.204: Cap Rel Neg Rate Agmt (Gulfport 35446 to BP 36474) to be effective 8/1/2017.

Filed Date: 08/01/2017.

Accession Number: 20170801-5073.

Comment Date: 5:00 p.m. Eastern Time on Monday, August 14, 2017.

Docket Numbers: RP17-949-000.

Applicants: Equitrans, L.P.

Description: Equitrans, L.P. submits tariff filing per 154.204: Negotiated Capacity Release Agreements—8/1/2017 to be effective 8/1/2017.

Filed Date: 08/01/2017.

Accession Number: 20170801-5096.

Comment Date: 5:00 p.m. Eastern Time on Monday, August 14, 2017.

Docket Numbers: RP17-950-000.

Applicants: Columbia Gas Transmission, LLC.

Description: Columbia Gas Transmission, LLC submits tariff filing per 154.204: Index of Market Areas to be effective 9/1/2017.

Filed Date: 08/01/2017.

Accession Number: 20170801-5107.

Comment Date: 5:00 p.m. Eastern Time on Monday, August 14, 2017.

Docket Numbers: RP17-951-000.

Applicants: Sabal Trail Transmission, LLC.

Description: Sabal Trail Transmission, LLC submits tariff filing per 154.204: Negotiated Rate—FPL—Contract 850013 to be effective 9/1/2017.

Filed Date: 08/01/2017.

Accession Number: 20170801-5110.

Comment Date: 5:00 p.m. Eastern Time on Monday, August 14, 2017.

Docket Numbers: RP17-952-000.

Applicants: Transcontinental Gas Pipe Line Company.

Description: Transcontinental Gas Pipe Line Company, LLC submits tariff filing per 154.204: Atlantic Sunrise Project Initial Rate Filing to be effective 9/1/2017.

Filed Date: 08/01/2017.

Accession Number: 20170801-5111.

Comment Date: 5:00 p.m. Eastern Time on Monday, August 14, 2017.

Docket Numbers: RP17-953-000.

Applicants: Transcontinental Gas Pipe Line Company.

Description: Transcontinental Gas Pipe Line Company, LLC submits tariff filing per 154.204: Garden State Expansion—Phase 1 Initial Rate Filing to be effective 9/1/2017.

Filed Date: 08/01/2017.

Accession Number: 20170801-5121.

Comment Date: 5:00 p.m. Eastern Time on Monday, August 14, 2017.

Docket Numbers: RP17-954-000.

Applicants: Enable Gas Transmission, LLC.

Description: Enable Gas Transmission, LLC submits tariff filing per 154.204: Negotiated Rate Filing—August 2017 XTO 1010983 to be effective 8/1/2017.

Filed Date: 08/01/2017.

Accession Number: 20170801-5133.

Comment Date: 5:00 p.m. Eastern Time on Monday, August 14, 2017.

Docket Numbers: RP17-955-000.

Applicants: Tennessee Gas Pipeline Company, L.L.C.

Description: Tennessee Gas Pipeline Company, L.L.C. submits tariff filing per 154.204: Volume No. 2—Statoil—Susquehanna West Project SP 322938 to be effective 11/1/2017.

Filed Date: 08/01/2017.

Accession Number: 20170801-5180.

Comment Date: 5:00 p.m. Eastern Time on Monday, August 14, 2017.

Docket Numbers: RP17-956-000.

Applicants: Tennessee Gas Pipeline Company, L.L.C.

Description: Tennessee Gas Pipeline Company, L.L.C. submits tariff filing per 154.204: Susquehanna West Project—Recourse Rate to be effective 9/1/2017.

Filed Date: 08/01/2017.

Accession Number: 20170801-5196.

Comment Date: 5:00 p.m. Eastern Time on Monday, August 14, 2017.

Docket Numbers: RP17-957-000.

Applicants: Enable Mississippi River Transmission, L.

Description: Enable Mississippi River Transmission, LLC submits tariff filing per 154.204: 2017 Housekeeping Filing to be effective 9/1/2017.

Filed Date: 08/01/2017.

Accession Number: 20170801-5215.

Comment Date: 5:00 p.m. Eastern Time on Monday, August 14, 2017,

Docket Numbers: RP17-958-000.

Applicants: Cameron Interstate Pipeline, LLC.

Description: Cameron Interstate Pipeline, LLC submits tariff filing per 154.204: Implementation of Pro Forma Capacity Release Umbrella Agreement to be effective 8/1/2017.

Filed Date: 08/01/2017.

Accession Number: 20170801-5240.

Comment Date: 5:00 p.m. Eastern Time on Monday, August 14, 2017.

Docket Numbers: RP17-959-000.

Applicants: Texas Eastern Transmission, LP.

Description: Texas Eastern Transmission, LP submits tariff filing per 154.204: Negotiated Rates—Talen Release to NJR 8946884 to be effective 8/1/2017.

Filed Date: 08/01/2017.

Accession Number: 20170801-5241.

Comment Date: 5:00 p.m. Eastern Time on Monday, August 14, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 2, 2017.
Nathaniel J. Davis, Sr.,
Deputy Secretary.

[FR Doc. 2017-16761 Filed 8-8-17; 8:45 am]

BILLING CODE 6717-01-P